DEPARTMENT OF COMMERCE

Foreign-Trade Zones Board

[B-30-2019]

Foreign-Trade Zone (FTZ) 20—Norfolk, Virginia; Authorization of Production Activity STIHL, Incorporated (Outdoor Power Equipment), Virginia Beach, Virginia

On May 1, 2019, STIHL, Incorporated submitted a notification of proposed production activity to the FTZ Board for its facility within FTZ 20 in Virginia, Virginia.

The notification was processed in accordance with the regulations of the FTZ Board (15 CFR part 400), including notice in the Federal Register inviting public comment (84 FR 20090, May 8, 2019). On August 29, 2019, the applicant was notified of the FTZ Board's decision that no further review of the proposed activity is warranted at this time. The FTZ Board authorized the production activity described in the notification, subject to the FTZ Act and the Board's regulations, including Section 400.14. Given the applicant's commitment in its notification, lithium battery primary cells must be admitted to the zone in privileged foreign status (19 CFR 146.41).

Dated: August 29, 2019.
Andrew McGilvray,
Executive Secretary.

[FR Doc. 2019-19183 Filed 9-4-19; 8:45 am]

BILLING CODE 3510-DS-P